DEPARTMENT OF ENERGY

Federal Energy Regulatory Commission

[Docket No. EC04-70-000, et al.]

Black River Power, LLC, et al.; Electric Rate and Corporate Filings

March 4, 2004.

The following filings have been made with the Commission. The filings are listed in ascending order within each docket classification.

1. Black River Power, LLC, Black River Generation, LLC, Energy Investors Funds Group, LLC

[Docket No. EC04-70-000]

Take notice that on March 2, 2004, Black River Power, LLC (Black River), Black River Generation, LLC and Energy Investors Funds Group, LLC filed with the Federal Energy Regulatory Commission an application pursuant to section 203 of the Federal Power Act, 16 U.S.C. 824b, and part 33 of the Commission's regulations, 18 CFR part 33, for authorization of a disposition of certain jurisdictional facilities held by Black River to EIF Hamakua LLC.

Black River states that a copy of the application was served upon the Public Service Commission of New York.

Comment Date: March 23, 2004.

2. Lima Energy Company

[Docket No. EG04-37-000]

Take notice that on March 3, 2004, Lima Energy Company (LEC) filed an Application for Determination of Exempt Wholesale Generator Status pursuant to section 32(a)(1) of the Public Utility Holding Company Act of 1935, all as more fully explained in the Application.

Comment Date: March 24, 2004.

3. Pepco Energy Services, Inc., Potomac Power Resources, LLC

[Docket Nos. ER98-3096-008 and ER01-202-001]

Take notice that on March 1, 2004, Pepco Energy Services, Inc. and Potomac Power Resources, LLC submitted for filing a triennial market power update pursuant to the Commission orders issued granting them market-based rate authorizations issued July 16, 1998 in Docket No. ER98-3096-000 and December 13, 2000 in Docket No. ER01-202-000.

Comment Date: March 22, 2004.

4. North Central Missouri Electric Cooperative, Inc.

[Docket No. ER02-2001-000]

Take notice that on February 17, 2004, North Central Missouri Electric Cooperative, Inc. filed a Request for Waiver of Order No. 2001 Electric Quarterly Report Requirements.

Comment Date: March 24, 2004.

5. PJM Interconnection, L.L.C.

[Docket No. ER03-406-005]

Take notice that on March 1, 2004, PJM Interconnection, L.L.C. (PJM) submitted for filing a revision to its February 27, 2004 compliance filing in Docket No. ER03-406-004.

PJM states that it has served a copy of this filing upon all PJM members, the utility regulatory commissions in the PJM region, and all persons on the Commission's service list in this proceeding.

Comment Date: March 22, 2004.

6. Devon Power LLC, et al.

[Docket No. ER03-563-030]

Take notice that on March 1, 2004, ISO New England Inc. (ISO), submitted a compliance filing reflecting a comprehensive locational capacity proposal for New England pursuant to the Commission's Order issued April 25, 2003, 103 FERC ¶61,082 at P 37.

ISO states that copies of the compliance filing have been served on all parties to the above-captioned proceeding, as well as the Governors and utility regulators of New England, and the New England transmission customers that are not Participants in the New England Power Pool. In addition, ISO states that each of the NEPOOL Participants Committee Members is being served with an electronic copy of the compliance filing.

Comment Date: March 22, 2004.

7. Midwest Independent Transmission System Operator, Inc.

[Docket No. ER03-1312-003]

Take notice that on March 1, 2004, the Midwest Independent Transmission System Operator, Inc. (Midwest ISO) submitted for filing Schedule 20 (Treatment of Station Power) of its Open Access Transmission Tariff, FERC Electric Tariff, Second Revised Volume No. 1, in compliance with the Commission's Order, Midwest Independent Transmission System Operator, Inc., 106 FERC ¶ 61,073 (2004).

Midwest ISO states that it has electronically served a copy of this filing, with attachments, upon all Midwest ISO Members, Member representatives of Transmission Owners and Non-Transmission Owners, the Midwest ISO Advisory Committee participants, as well as all state commissions within the region. In addition, Midwest states that the filing has been posted on the Midwest ISO's website and will provide hard copies upon request.

Comment Date: March 19, 2004.

8. Pacific Gas and Electric Company

[Docket No. ER04-337-003]

Take notice that on March 1, 2004, Pacific Gas and Electric Company (PG&E) made an additional filing related to its Annual Balancing Account Update Filing, in Docket No. ER04-337-000.

PG&E states that copies of this filing have been served upon the California Independent System Operator Corporation (ISO), Scheduling Coordinators registered with the ISO, Southern California Edison Company, San Diego Gas & Electric Company, the California Public Utilities Commission and other parties to the official service lists in this docket and recent TO Tariff rate cases, FERC Docket Nos. ER01-1639-000, ER03-409-000 and ER04-109-000.

Comment Date: March 22, 2004.

9. New England Power Pool

[Docket No. ER04-601-000]

Take notice that on March 1, 2004, the New England Power Pool (NEPOOL) Participants Committee filed for acceptance materials to (1) permit NEPOOL to expand its membership to include Linde Gas LLC (Linde Gas) and Ridgewood Maine Hydro Partners, L.P. (Ridgewood Maine); and (2) to terminate the memberships of Indeck-Pepperell Power Associates, Inc. (Indeck-Pepperell) and RWE Trading Americas, Inc. (RWE Trading). The Participants Committee requests the following effective dates: February 1, 2004 for the termination of Indeck-Pepperell and RWE Trading; March 1, 2004 for the commencement of participation in NEPOOL by Ridgewood Maine; and May 1, 2004 for commencement of participation in NEPOOL by Linde Gas.

The Participants Committee states that copies of these materials were sent to the New England state governors and regulatory commissions and the Participants in NEPOOL.

Comment Date: March 22, 2004.

10. PPL Electric Utilities Corporation

[Docket No. ER04-602-000]

Take notice that on March 1, 2004, PPL Electric Utilities Corporation (PPL Electric) filed a notice of termination of 30 Power Supply Agreements between it and various Pennsylvania Boroughs. PPL Electric states that the Power Supply Agreements terminated by their own terms on February 1, 2004.

PPL Electric states that it has served a copy of the notice of termination of on each of the customers named in the agreements.

Comment Date: March 22, 2004.

11. American Electric Power Service Corporation

[Docket No. ER04-603-000]

Take notice that on March 1, 2004, American Electric Power Service Corporation, (AEP) as agent for the Operating Companies of the American Electric Power System (collectively AEP) tendered for filing with the Commission an Agreement on Operating and Business Practices to Implement Generation Transfer Pathway between AEP and PJM Interconnection, LLC (PJM). AEP requests an effective date when PJM notifies AEP, at least 30 days prior to the date that the integration of Commonwealth Edison Company (ComEd) into PJM's economic dispatch will commence.

AEP states that a copy of the filing was served upon AEP's transmission service customers, PJM, ComEd and the state regulatory commissions exercising jurisdiction over affected AEP Companies.

Comment Date: March 22, 2004.

12. Portland General Electric Company

[Docket No. ER04-604-000]

Take notice that on March 1, 2004, Portland General Electric Company (PGE) tendered for filing revised tariff sheets to PGE's FERC Electric Tariff, Original Volume No. 12. PGE states that the revisions are intended to bring PGE's Form of Umbrella Service Agreement into conformance with current business practices.

PGE states that a copy of the filing was served upon the Oregon Public Utility Commission.

Comment Date: March 22, 2004.

13. Ameren Services Company

[Docket No. ER04-605-000]

Take notice that on March 1, 2004, Ameren Services Company (ASC) tendered for filing an executed Network Integration Transmission Service and Network Operating Agreement between ASC and Clay Electric Cooperative, Inc. ASC states that the purpose of the Agreements is to permit ASC to provide transmission service to Clay Electric Cooperative, Inc., pursuant to Ameren's Open Access Transmission Tariff.

Comment Date: March 22, 2004.

14. Wisconsin Electric Power Company

[Docket No. ER04-607-000]

Take notice that on March 1, 2004, Wisconsin Electric Power Company (Wisconsin Electric), on behalf of the Wisconsin Energy Corporation Operating Companies (WEC Operating Companies), tendered for filing revisions to the WEC Operating Companies Joint Ancillary Services Tariff, FERC Electric Tariff, Original Volume No. 2, wherein the WEC Operating Companies propose to implement a Generator Imbalance Service and make conforming changes to its Joint Ancillary Services Tariff. WEC Operating Companies request an effective date of April 1, 2004.

Comment Date: March 22, 2004.

15. PJM Interconnection, L.L.C.

[Docket No. ER04-608-000]

Take notice that on March 1, 2004, PJM Interconnection, L.L.C. (PJM), submitted for filing revisions to the PJM Open Access Transmission Tariff, the Amended and Restated Operating Agreement of PJM Interconnection, L.L.C., the Reliability Assurance Agreement Among Load Serving Entities In The MAAC Control Zone, and the PJM West Reliability Assurance Agreement Among Load Serving Entities In The PJM West Region to implement market rules for behind the meter generation. PJM requests an effective date of June 1, 2004 for the amendments.

PJM states that copies of this filing have been served on all PJM members, and each state electric utility regulatory commission in the PJM region.

Comment Date: March 22, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-535 Filed 03-10-04; 8:45 am]

BILLING CODE 6717-01-P